DEPARTMENT OF STATE

[Public Notice 5442]

Shipping Coordinating Committee; Facilitation Committee; Notice of Meeting

The Shipping Coordinating Committee (SHC) will conduct an open meeting at 12:30 p.m. on Monday, June 26, 2006, in Room 1303 of the United States Coast Guard Headquarters building, 2100 Second Street SW., Washington, DC 20593-0001. The primary purpose of the meeting is to prepare for the thirty-third session of the Facilitation Committee (FAL 33) of the International Maritime Organization (IMO), to be held from July 3 to 7, 2006, at IMO Headquarters in London, England.

The primary matters for discussion for FAL 33 will include the following:

• General review and implementation of the Convention on Facilitation of International Maritime Traffic.

• Consideration and adoption of proposed amendments to the Annex to the Convention.

• Electronic means for the clearance of ships.

• Application of the Committee's Guidelines.

• Prevention and suppression of unlawful acts at sea or in port—Facilitation aspects.

• Measure to enhance maritime security—Facilitation aspects.

• Formalities connected with the arrival, stay and departure of persons.

• Formalities connected with the arrival, stay and departure of ships.

• Facilitation aspects of other IMO forms and certificates.

• Ship/port interface.

• Technical co-operation sub-programme for facilitation.

Please note that hard copies of documents associated with FAL 33 will not be available at this meeting. Documents will be available in Adobe Acrobat format on CD-ROM. To request documents, please contact Mr. David Du Pont via e-mail at DDuPont@comdt.uscg.mil or write to the address provided below.

Members of the public may attend this meeting up to the seating capacity of the room. Interested persons may seek information by writing to Mr. David Du Pont, Commandant (G-PSR), U.S. Coast Guard Headquarters, 2100 Second Street SW., Room 1400, Washington, DC 20593-0001 or by calling (202) 372-1497.

Dated: June 9, 2006.
Margaret Hayes,
Director, Shipping Coordinating Committee, Department of State.

[FR Doc. E6-9358 Filed 6-14-06; 8:45 am]

BILLING CODE 4710-09-P